DEPARTMENT OF LABOR

Office of the Secretary

Submission for OMB Review; Comment Request

December 15, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by contacting the Department of Labor. To obtain documentation, contact Darrin King on 202-693-4129 (this is not a toll-free number) or E-Mail: king.darrin@dol.gov.

Comments should be sent to Office of Information and Regulatory Affairs, Attn: OMB Desk Officer for DOL, Office of Management and Budget, Room 10235, Washington, DC 20503 (202-395-7316/this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Assistant Secretary for Policy.

Type of Review: Revision of a currently approved collection.

Title: National Agriculture Workers Survey (NAWS).

OMB Number: 1225-0044.

Affected Public: Individuals or households and farms.

Type of Response: Reporting.

Frequency: Annually.

Number of Respondents: 5,200.

Number of Annual Responses: 5,344.

Estimated Time Per Response: 20 minutes to conduct employer interviews; 15 minutes for the Occupational Injury Supplement; and 50 minutes for the Primary Questionnaire.

Total Burden Hours: 3,570.

Total Annualized Capital/Startup Costs: $0.

Total Annual Costs (operating/maintaining systems or purchasing services): $0.

Description: NAWS provides an understanding of the manpower resources available to U.S. agriculture. It is the national source of information on the demographic, occupational health and employment characteristics of hired crop workers.

Ira Mills,
Departmental Clearance Officer.

[FR Doc. 03-31539 Filed 12-22-03; 8:45 am]

BILLING CODE 4510-23-M